DEPARTMENT OF THE INTERIOR

Bureau of Land Management

[LLCO80200-L10200000.PH0000-212]

Northwest Colorado Resource Advisory Council Meetings

AGENCY: Bureau of Land Management, Interior.

ACTION: Notice of public meetings.

SUMMARY: In accordance with the Federal Land Policy and Management Act of 1976 and the Federal Advisory Committee Act of 1972, the U.S. Department of the Interior, Bureau of Land Management (BLM) Colorado's Northwest Resource Advisory Council (RAC) will meet as follows.

DATES: The Northwest Colorado RAC will host a field tour on October 20, 2021, from 11:30 a.m. to 4:30 p.m. and a meeting on October 21, 2021. The RAC will also host a field tour on January 26, 2022, from 12:00 p.m. to 5:00 p.m. and a meeting on January 27, 2022. Both meetings will be held from 8 a.m. to 3 p.m. with public-comment periods each day at 2 p.m.

ADDRESSES: October 20 field trip attendees will meet at the BLM Northwest District Office at 455 Emerson St. in Craig at 11:30 a.m. The October 21 meeting will be held virtually. January 26 field tour attendees will meet at the BLM Grand Junction Field Office at 2815 H Road in Grand Junction at 12:00 p.m. The January 27 meeting will be held virtually. The virtual meetings will be held via the Zoom platform. To request virtual access, please register here: https://blm.zoomgov.com/meeting/register/vJItdumhqDIjEkTarTs6YGNw6AKPsiQPAZg.

An agenda for each meeting will be available prior to the meetings at https://www.blm.gov/get-involved/resource-advisory-council/near-you/colorado/northwest-rac.

FOR FURTHER INFORMATION CONTACT: Chris Maestas, Public Affairs Specialist; Northwest District Office, 455 Emerson St., Craig, CO 81625, email: cjmaestas@blm.gov; telephone: 970-826-5101. Persons who use a telecommunications device for the deaf (TDD) may call the Federal Relay Service (FRS) at 1-800-877-8339 to contact Chris during normal business hours. The FRS is available 24 hours a day, 7 days a week, to leave a message or question. You will receive a reply during normal business hours.

SUPPLEMENTARY INFORMATION: The 15-member Northwest Colorado RAC advises the Secretary of the Interior, through the BLM, on a variety of public-land issues in the Northwest District, including the Little Snake, White River, Kremmling, Grand Junction, and Colorado River Valley Field Offices.

On October 20, the RAC will conduct a field tour of the Sand Wash Basin Herd Management Area (HMA) for an overview and introduction to BLM Colorado's HMAs. Agenda items for the October 21 meeting will include a field tour overview and discussions on the Dominguez Escalante and Gunnison Gorge National Conservation Area Business Plan and the White River Field Office Travel Management Plan. On January 26, the RAC will tour the Grand Junction Special Recreation Management Area for an overview and introduction to BLM Colorado's Special Recreation Management Areas. Agenda items for the January 27 meeting will include a field tour overview and discussions on resources and recreation management. The meetings are open to the public, and public comment periods will be held for each meeting at 2 p.m. Depending on the number of people who wish to comment during the public comment period, individual comments may be limited. The public may present written comments to the Northwest RAC prior to the meeting. Please include “RAC Comment” in your submission. Before including your address, phone number, email address, or other personal identifying information in your comment, you should be aware that your entire comment—including your personal identifying information—may be made publicly available at any time. While you can ask us in your comment to withhold your personal identifying information from public review, we cannot guarantee that we will be able to do so.

Members of the public are welcome on field tours but must provide their own transportation and meals. Individuals who plan to attend must RSVP to the BLM Northwest District Office at least 2 weeks in advance of the field tours. Individuals that need special assistance, such as sign language interpretation and other reasonable accommodations, should contact the BLM (see FOR FURTHER INFORMATION CONTACT). The field tours will follow current Centers for Disease Control and Prevention COVID-19 guidance regarding social distancing and wearing of masks. Additional information regarding the meetings will be available on the RAC's website, https://www.blm.gov/get-involved/resource-advisory-council/near-you/colorado/northwest-rac .

Summary minutes for the RAC meetings will be maintained in the Northwest District Office and will be available for public inspection and reproduction during regular business hours within 30 days following the meeting. Previous minutes and agendas are available at: https://www.blm.gov/get-involved/resource-advisory-council/near-you/colorado/northwest-rac.

(Authority: 43 CFR 1784.4-2)

Jamie E. Connell,
BLM Colorado State Director.

[FR Doc. 2021-20305 Filed 9-20-21; 8:45 am]

BILLING CODE 4310-JB-P